DEPARTMENT OF AGRICULTURE

Food and Nutrition Service

Agency Information Collection Activities: Proposed Collection; Comment Request—7 CFR Part 226 Child and Adult Care Food Program

AGENCY: Food and Nutrition Service, USDA.

ACTION: Notice.

SUMMARY: In accordance with the Paperwork Reduction Act of 1995, this Notice announces the Food and Nutrition Service's (FNS) intention to request Office of Management and Budget (OMB) review of the information collection related to the Child and Adult Care Food Program. This notice also invites the general public and other public agencies to comment on the proposed information collection.

DATES: To be assured of consideration, comments must be received by November 3, 2003.

ADDRESSES: Send comments and requests for copies of this information collection to: Mr. Robert Eadie, Chief, Policy and Program Development Branch, Child Nutrition Division, Food and Nutrition Service, U.S. Department of Agriculture, 3101 Park Center Drive, Room 636, Alexandria, Virginia 22302.

Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

All responses to this Notice will be summarized and included in the request for OMB approval, and will become a matter of public record.

FOR FURTHER INFORMATION CONTACT: Mr. Robert Eadie at (703) 305-2590.

SUPPLEMENTARY INFORMATION: Title: 7 CFR part 226, Child and Adult Care Food Program.

OMB Number: 0584-0055.

Expiration Date: December 31, 2003.

Type of Request: Extension of a currently approved collection.

Abstract: Section 17 of the Richard B. Russell National School Lunch Act (42 U.S.C. 1766), authorizes the Department to carry out a program to assist States through grants-in-aid and other means to initiate and maintain nonprofit food service programs for children in institutions providing child care.

Estimate of Burden: The reporting burden for this collection of information is estimated at 4,431,068 burden hours. The recordkeeping burden is estimated at 662,784 burden hours.

Affected Public: 2,604,449.

Estimate of Burden:

Annual Reporting Burden:

(1) Estimated number of respondents: 2,604,449.

(2) Estimated number of responses per respondent: 1.8440.

(3) Estimated time per response: 1.084 hours.

Estimated Total Annual Reporting Burden: 4,431,068 hours.

Annual Recordkeeping Burden:

(1) Estimated total number of Recordkeepings: 4,802,804.

(2) Estimated time per Recordkeeping: .138 hours.

Estimated Total Annual Recordkeeping Burden: 662,784.

Total Annual Reporting and Recording Burden: 5,093,852.

Dated: August 25, 2003.
Roberto Salazar,
Administrator, Food and Nutrition Service.

[FR Doc. 03-22295 Filed 8-29-03; 8:45 am]

BILLING CODE 3410-30-P